NATIONAL AERONAUTICS AND SPACE ADMINISTRATION

[Notice 00-101]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing:

NASA Case No. MFS 26503-1: Microgravity Fiber Pulling Apparatus;

NASA Case No. MFS 31066-1: Attachment Fitting for Pressure Vessel;

NASA Case No. MFS 31230-1: Method and Apparatus for Reading Two Dimensional Identification Symbols Using Radar Techniques;

NASA Case No. MFS 31289-1: Method and System for Reducing Plasma Loss in a Magnetic Mirror Fusion Reactor;

NASA Case No. MFS 31331-1: Infrared Communication System;

NASA Case No. MFS 31340-1: Lightweight Fluid Container;

NASA Case No. MFS 31341-1: Atomic-Based Combined Cycle Propulsion System and Method;

NASA Case No. MFS 31343-1: Low-Cost Gas Generator and Ignitor;

NASA Case No. MFS 31364-1: Small Mobility Base Docking Simulator;

NASA Case No. MFS 31368-1: Electro-Mechanical Multi-Message Display;

NASA Case No. MFS 31387-1: Gravity Responsive NADH Oxidase of the Plasma Membrane;

NASA Case No. MFS 31388-1: Identification of the Biological Clock;

NASA Case No. MFS 31396-1: Method of Making Molecular Connections on a Nanometric Scale Using Nucleic Acids;

NASA Case No. MFS 31403-1: Structural Assembly Device;

NASA Case No. MFS 31419-1: Apparatus & Method for Generating Thrust Using a Two Dimensional, Asymmetrical Capacitor;

NASA Case No. MFS 31438-1: Rocket Combustion Chamber Coating;

NASA Case No. MFS 31454-1: Thermally Activated Joining Apparatus.

DATES: August 24, 2000.

FOR FURTHER INFORMATION CONTACT: James McGroary, Patent Counsel, Marshall Space Flight Center, Code LS01, Huntsville, AL 35812; Tel. (256) 544-0013; Fax (256) 544-0258.

Dated: August 16, 2000.
Edward A. Frankle,
General Counsel.

[FR Doc. 00-21585 Filed 8-23-00; 8:45 am]

BILLING CODE 7510-01-P